DEPARTMENT OF ENERGY

Federal Energy Regulatory Commission

[Docket No. CP00-459-000]

El Paso Natural Gas Company; Notice of Request for Blanket Authorization

September 20, 2000.

Take notice that on September 12, 2000, El Paso Natural Gas Company (El Paso), a Delaware corporation, P.O. Box 1492, El Paso, Texas 79978, filed in CP00-459-000 a request pursuant to Sections 157.205 and 157.216(b) of the Commission's (Commission) Regulations under the Natural Gas Act (18 CFR 157.205 and 157.216(b)) and El Paso's blanket certificate authorization granted in Docket No. CP82-435-000, 20 FERC ¶62,454 (1982), to abandon by removal eight delivery points with appurtenances and natural gas service in Arizona, New Mexico and Texas as more fully set forth in the request which is on file with the Commission and open to public inspection. The application may be viewed on the web at http://www.ferc.fed.us/online/rims.htm. Call (202) 208-2222 for assistance.

El Paso states that on March 24, 2000, EPNG Pipeline Company (EPNGPC, a wholly-owned subsidiary of El Paso) acquired a 1,088 mile 30-inch O.D. crude oil pipeline from Plains All American Pipeline L.P. (All American). It is then stated that on July 31, 2000, El Paso filed in Docket No. CP00-422-000 an application requesting authorization for, among other things, the acquisition from EPNGPC of approximately 785 miles of a 30-inch O.D. crude oil pipeline and the conversion of that 785-mile segment to a natural gas transportation pipeline and to operate the facility in interstate commerce.

It is stated that as part of the sale agreement between EPNGPC and All American, that All American would retain, dismantle and remove ten crude oil pumping station facilities along the 30-inch O.D. crude oil pipeline. It is indicated that currently there are eight El Paso delivery points that provide natural gas service for fuel to operate eight of the All American crude oil pumping stations, and that El Paso proposes to abandon by removal the eight delivery points, appurtenances and natural gas service thereof and will remove and scrap equipment. El Paso states that the proposed abandonment will not result in or cause any interruption, reduction or termination of natural gas service presently rendered to El Paso's customers.

El Paso states that Robert T. Tomlinson at 915-496-5959 may be contacted for any further questions regarding this project,

Any person or the Commission's Staff may, within 45 days after issuance of the instant notice by the Commission, file pursuant to Rule 214 of the Commission's Procedural Rules (18 CFR 385.214) a motion to intervene or notice of intervention and pursuant to Section 157.205 of the regulations under the Natural Gas Act (18 CFR 157.205), a protest to the request. If no protest is filed within the time allowed therefore, the proposed activity shall be deemed to be authorized effective the day after the time allowed for filing a protest. If a protest is filed and not withdrawn within 30 days after the time allowed for filing a protest, the instant request shall be treated as an application for authorization pursuant to Section 7 of the Natural Gas Act.

David P. Boergers,
Secretary.

[FR Doc. 00-24615 Filed 9-25-00; 8:45 am]

BILLING CODE 6717-01-M